ENVIRONMENTAL PROTECTION AGENCY

40 CFR Part 52

[R03-OAR-2005-PA-0007; FRL-7917-5]

Approval and Promulgation of Air Quality Implementation Plans; Pennsylvania; Partial Withdrawal of Direct Final Rule

AGENCY: Environmental Protection Agency (EPA).

ACTION: Partial withdrawal of direct final rule.

SUMMARY: Due to an adverse comment, EPA is withdrawing a paragraph that was included as part of a direct final rule to approve reasonable available control technology (RACT) to limit nitrogen oxides (NOX) emissions from fifteen individual sources located in Pennsylvania. In the direct final rule published on March 31, 2005 (70 FR 16423), we stated that if we received adverse comments by May 2, 2005, the rule would be withdrawn and would not take effect. EPA subsequently received an adverse comment on one provision of that direct final rule and is withdrawing that provision. EPA will address the comment received in a subsequent final action based upon the proposed action also published on March 31, 2005 (70 FR 16471). EPA will not institute a second comment period on this action.

DATES: The addition of the entry for Koppers Industry, Inc. in 40 CFR 52.2020(d)(1) published at 70 FR 16426 is withdrawn as of May 26, 2005.

FOR FURTHER INFORMATION CONTACT: LaKeshia Robertson, by phone at (215) 814-2113 or by e-mail at robertson.lakeshia@epa.gov.

SUPPLEMENTARY INFORMATION: See the information provided in the direct final rule located in the Rules and Regulations section of the March 31, 2005, Federal Register (70 FR 16423). EPA received adverse comments only for one source, namely, Koppers Industries, Inc. located in Lycoming County, PA. The other actions in the March 31, 2005, Federal Register are not affected.

List of Subjects in 40 CFR Part 52

Environmental protection, Air pollution control, Nitrogen dioxide, Ozone, Reporting and recordkeeping requirements, Volatile organic compounds.

Dated: May 16, 2005.
Donald S. Welsh,
Regional Administrator, Region III.

Accordingly, the addition of the entry of Koppers Industry, Inc. in 40 CFR 52.2020(d)(1) published at 70 FR 16426 is withdrawn as May 26, 2005.

[FR Doc. 05-10513 Filed 5-25-05; 8:45 am]

BILLING CODE 6560-50-P